GENERAL SERVICES ADMINISTRATION

48 CFR Parts 6101, 6103, 6104, and 6105

[CBCA-TA-2020-01; Docket No. 2020-0007; Sequence No. 1]

Rules of Procedure of the Civilian Board of Contract Appeals; Technical Amendment

AGENCY: Civilian Board of Contract Appeals; General Services Administration (GSA).

ACTION: Final rule.

SUMMARY: This document makes amendments to the Rules of Procedure of the Civilian Board of Contract Appeals.

DATES: Effective: January 30, 2020.

FOR FURTHER INFORMATION CONTACT: Mr. James Johnson, Chief Counsel, Civilian Board of Contract Appeals, 1800 M Street NW, Suite 600, Washington, DC 20036; at 202-606-8788; or email at jamesa.johnson@cbca.gov, for clarification of content. For information on status or publication schedules, contact the Regulatory Secretariat Division at 202-501-4755.

SUPPLEMENTARY INFORMATION:

A. Background

The Civilian Board of Contract Appeals was established within the General Services Administration (GSA) by Section 847 of the National Defense Authorization Act for Fiscal Year 2006, Pub. L. 109-163 (now codified at 41 U.S.C. 7105(b)). This document updates the CFR to reflect a change in the Board's mailing address. This final rule amends sections 6101.1(e), 6103.302(b), 6104.402(a)(3), and 6105.502(a)(2)(iv) to provide that the physical location and mailing address for the Board are the same.

B. Regulatory Flexibility Act

The General Services Administration certifies that this final rule will not have a significant economic impact on a substantial number of small entities within the meaning of the Regulatory Flexibility Act, 5 U.S.C. 601, et seq., because the rule does not impose any additional costs on large or small businesses.

C. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

D. Paperwork Reduction Act

The Paperwork Reduction Act does not apply because the changes do not impose recordkeeping or information collection requirements, or otherwise collect information from offerors, contractors, or members of the public that require approval of the Office of Management and Budget.

E. Congressional Review Act

The final rule is exempt from Congressional review under Pub. L. 104-121 because it relates solely to agency organization, procedure, and practice and does not substantially affect the rights or obligations of non-agency parties.

F. Executive Order 13771

This final rule is not an E.O. 13771 regulatory action because this rule is not significant under E.O. 12866.

List of Subjects in 48 CFR Parts 6101, 6103, 6104, and 6105

Administrative practice and procedure, Freight forwarders, Government procurement, Travel and relocation expenses.

Jeri Kaylene Somers,
Chair, Civilian Board of Contract Appeals, General Services Administration.

Therefore, GSA amends 48 CFR parts 6101, 6103, 6104, and 6105 as set forth below:

PART 6101—CONTRACT DISPUTE CASES

1. The authority citation for 48 CFR part 6101 continues to read as follows:

Authority: 41 U.S.C. 7101-7109.

2. Amend section 6101.1 by revising the first sentence of paragraph (e) to read as follows:

6101.1 General information; definitions [Rule 1].

* * * * *

(e) * * * The Board's physical and mailing address is 1800 M Street NW, 6th Floor, Washington, DC 20036. * * *

* * * * *

PART 6103—TRANSPORTATION RATE CASES

3. The authority citation for 48 CFR part 6103 continues to read as follows:

Authority: 31 U.S.C. 3726(i)(1); 41 U.S.C. 7101-7109; Sec. 201(o), Pub. L. 104-316, 110 Stat. 3826.

4. Amend section 6103.302 by removing the second sentence and revising the new second sentence of paragraph (b) to read as follows:

6103.302 Filing claims [Rule 302].

* * * * *

(b) * * * The Board will accept hand-delivered and mailed filings during business hours at 1800 M Street NW, 6th Floor, Washington, DC 20036. * * *

* * * * *

PART 6104—TRAVEL AND RELOCATION EXPENSES CASES

5. The authority citation for 48 CFR part 6104 continues to read as follows:

Authority: Secs. 202(n), 204, Pub. L. 104-316, 110 Stat. 3826; Sec. 211, Pub. L. 104-53, 109 Stat. 535; 31 U.S.C. 3702; 41 U.S.C. 7101-7109.

6. Amend section 6104.402 by removing the second sentence and revising the new second sentence of paragraph (a)(3) to read as follows:

6104.402 Filing claims [Rule 402].

(a) * * *

(3) * * * The Board will accept hand-delivered and mailed filings during business hours at 1800 M Street NW, 6th Floor, Washington, DC 20036. * * *

* * * * *

PART 6105—DECISIONS AUTHORIZED UNDER 31 U.S.C. 3529

7. The authority citation for 48 CFR part 6105 continues to read as follows:

Authority: 31 U.S.C. 3529; 31 U.S.C. 3702; 41 U.S.C. 7101-7109; Secs. 202(n), 204, Pub. L. 104-316, 110 Stat. 3826; Sec. 211, Pub. L. 104-53, 109 Stat. 535.

8. Amend section 6105.502 by removing the second sentence and revising the new second sentence of paragraph (a)(2)(iv) to read as follows:

6105.502 Request for decision [Rule 502].

(a) * * *

(2) * * *

(iv) * * * The Board will accept hand-delivered and mailed filings during business hours at 1800 M Street NW, 6th Floor, Washington, DC 20036. * * *

* * * * *

[FR Doc. 2020-00762 Filed 1-29-20; 8:45 am]

BILLING CODE 6820-AL-P